NUCLEAR REGULATORY COMMISSION

[Docket Nos. 50-259, 50-260, and 50-296]

Tennessee Valley Authority; Notice of Extension of the Scoping Comment Period for the Environmental Impact Statement for the License Renewal of Browns Ferry Nuclear Plant, Units 1, 2, and 3

Notice is hereby given that the U.S. Nuclear Regulatory Commission (the Commission) has extended the public comment period for the draft plant-specific supplement to the “Generic Environmental Impact Statement (GEIS), NUREG-1437,” regarding the renewal of operating licenses DPR-33, DPR-52, and DPR-68 for an additional 20 years of operation at the Browns Ferry Nuclear Plant, Units 1, 2, and 3 (BFN).

The application for renewal was received on January 6, 2004, pursuant to 10 CFR part 54. A notice of receipt and availability of the application, which included the environmental report (ER), was published in the Federal Register on January 13, 2004, (69 FR 2012). A notice of intent to prepare an environmental impact statement and conduct scoping process (69 FR 11462) and a notice of acceptance for docketing and notice of opportunity for hearing (69 FR 11460) regarding renewal of the facility operating license were published in the Federal Register on March 10, 2004. The purpose of this notice is to inform the public that the U.S. Nuclear Regulatory Commission (NRC) has extended the comment period on the environmental scope of the BFN license renewal review in response to a request from a member of the public. In view of the importance of meaningful stakeholder input on the environmental scope of the BFN license renewal review, the NRC has decided to extend the comment period.

Any interested party may submit comments on the environmental scope of the BFN license renewal review for consideration by the NRC staff. To be certain of consideration, comments on the draft supplement to the GEIS and the proposed action must be received by June 4, 2004. Comments received after the due date will be considered if it is practical to do so, but the NRC staff is able to assure consideration only for comments received on or before this date. Written comments on the environmental scope of the BFN license renewal review should be sent to the Chief, Rules and Directives Branch, Division of Administrative Services, Office of Administration, Mailstop T-6D59 U.S. Nuclear Regulatory Commission, Washington, DC 20555-0001.

Comments may also be delivered to the NRC, Room T-6D59, Two White Flint North, 11545 Rockville Pike, Rockville, Maryland, from 7:45 a.m. to 4:15 p.m. on Federal workdays. Electronic comments may be sent by the Internet to the NRC at BrownsFerryEIS@nrc.gov. All comments received by the Commission, including those made by Federal, State, and local agencies, Indian tribes, or other interested persons, will be made available electronically and accessible through ADAMS at http://www.nrc.gov/reading-rm/adams.html. Persons who do not have access to ADAMS, or encounter problems in accessing the documents located in ADAMS, should contact the NRC's Public Document Room reference staff at 1-800-397-4209, or (301) 415-4737, or by e-mail to pdr@nrc.gov.

FOR FURTHER INFORMATION CONTACT: Dr. Michael T. Masnik, License Renewal and Environmental Impacts Program, Division of Regulatory Improvement Programs, U.S. Nuclear Regulatory Commission, Washington, DC 20555. Dr. Masnik may also be contacted at the aforementioned telephone number or e-mail address.

Dated at Rockville, Maryland, this 20th day of May, 2004.
For the Nuclear Regulatory Commission.
K. Steven West,
Acting Program Director, License Renewal and Environmental Impacts Program, Division of Regulatory Improvement Programs, Office of Nuclear Reactor Regulation.

[FR Doc. 04-11990 Filed 5-26-04; 8:45 am]

BILLING CODE 7590-01-P